DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Action(s)

On September 15, 2020, OFAC determined that the property and interests in property subject to U.S. jurisdiction of the following persons are blocked under the relevant sanctions authority listed below.

Individual:

1. JAMMEH, Zineb Souma Yahya (a.k.a. JAMMEH, Zeinab Zuma; a.k.a. JAMMEH, Zineb Yahya), Equatorial Guinea; DOB 05 Oct 1977; POB Rabat, Morocco; nationality Equatorial Guinea; alt. nationality Morocco; Gender Female (individual) [GLOMAG].

Designated pursuant to section 1(a)(iii)(A)(2) of Executive Order 13818 of December 20, 2017, “Blocking the Property of Persons Involved in Serious Human Rights Abuse or Corruption,” 82 FR 60839, 3 CFR, 2018 Comp., p. 399, (E.O. 13818) for having materially assisted, sponsored, or provided financial, material, or technological support for, or goods or services to or in support of, YAHYA JAMMEH, a person whose property and interests in property are blocked pursuant to this Order.

Entity:

1. NABAH LTD, 7-10 Chandos Street, London W1G 9DQ, United Kingdom; Company Number 12146985 (United Kingdom) [GLOMAG] (Linked To: AL-CARDINAL, Ashraf Seed Ahmed).

Designated pursuant to section 1(a)(iii)(B) of E.O. 13818 for being owned or controlled by, or to have acted or purported to act for or on behalf of, directly or indirectly, ASHRAF SEED AHMED AL-CARDINAL, a person whose property and interests in property are blocked pursuant to this Order.

Dated: September 15, 2020.
Andrea M. Gacki,
Director, Office of Foreign Assets Control, U.S. Department of the Treasury.

[FR Doc. 2020-20638 Filed 9-17-20; 8:45 am]

BILLING CODE 4810-AL-P